NATIONAL SCIENCE FOUNDATION

Notice; Cancellation of Meeting

AGENCY: National Science Foundation.

ACTION: Notice; cancellation of meeting date.

SUMMARY: The National Science Foundation published a notice in the Federal Register concerning a meeting of the National Artificial Intelligence Research Resource Task Force. The meeting scheduled for Wednesday, December 7, 2022, at 1 p.m. (ET) is cancelled. The notice is in the Federal Register of Tuesday, November 1, 2022, in FR Doc. 2022-23733, in the third column of page 65829.

FOR FURTHER INFORMATION CONTACT: Please contact Crystal Robinson crrobins@nsf.gov or 703-292-8687.

Dated: November 30, 2022.
Crystal Robinson,
Committee Management Officer, National Science Foundation.

[FR Doc. 2022-26423 Filed 12-5-22; 8:45 am]

BILLING CODE 7555-01-P